ENVIRONMENTAL PROTECTION AGENCY

40 CFR Part 9

[EPA-HQ-OPPT-2006-0118; FRL-7760-4]

OMB Approvals Under the Paperwork Reduction Act; Technical Amendment

AGENCY: Environmental Protection Agency (EPA).

ACTION: Final rule.

SUMMARY: In compliance with the Paperwork Reduction Act (PRA), this technical amendment updates the table that lists the Office of Management and Budget (OMB) control numbers issued under PRA for information collection requirements contained in EPA's regulations that are promulgated in title 40 of the Code of Federal Regulations (CFR). This technical amendment adds new approvals published in the Federal Register since July 1, 2003, and removes expired and terminated approvals.

DATES: This rule is effective March 23, 2006.

ADDRESSES: EPA has established a docket for this action under docket identification (ID) number EPA-HQ-OPPT-2006-0118. All documents in the docket are listed on the regulations.gov web site. Although listed in the index, some information is not publicly available, e.g., Confidential Business Information (CBI) or other information whose disclosure is restricted by statute. Certain other material, such as copyrighted material, is not placed on the Internet and will be publicly available only in hard copy form. Publicly available docket materials are available either electronically at http://www.regulations.gov or in hard copy at the OPPT Docket, EPA Docket Center (EPA/DC), EPA West, Rm. B102, 1301 Constitution Ave., NW., Washington, DC. The Public Reading Room is open from 8:30 a.m. to 4:30 p.m., Monday through Friday, excluding legal holidays. The telephone number for the Public Reading Room is (202) 566-1744, and the telephone number for the OPPT Docket is (202) 566-0280.

FOR FURTHER INFORMATION CONTACT: Melissa L. Chun, Regulatory Coordination Staff (7101M), Office of Prevention, Pesticides and Toxic Substances, Environmental Protection Agency, 1200 Pennsylvania Ave., NW., Washington, DC 20460-0001; telephone number: (202) 564-1605; e-mail address: chun.melissa@epa.gov.

SUPPLEMENTARY INFORMATION:

I. Does this Action Apply to Me?

This action is directed to the public in general. This action may, however, be of interest to those persons who are concerned about OMB approval for information collections required by EPA regulations. Since other entities may also be interested, the Agency has not attempted to describe all the specific entities that may be affected by this action. If you have any questions regarding the applicability of this action to a particular entity, consult the person listed under FOR FURTHER INFORMATION CONTACT.

II. Background

A. Why is this Technical Amendment Being Issued?

This document updates the OMB control numbers listed in 40 CFR part 9 for various actions published in the Federal Register since July 1, 2003, and issued under the Toxic Substances Control Act (TSCA) (15 U.S.C. 2601), the Federal Insecticide, Fungicide, and Rodenticide Act (FIFRA) (7 U.S.C. 136), and the Federal Food, Drug, and Cosmetic Act (FFDCA) (21 U.S.C. 408). Under PRA, 44 U.S.C. 3501 et seq., an agency may not conduct or sponsor, and a person is not required to respond to an information collection request unless it displays a currently valid OMB control number. The OMB control numbers for EPA's regulations are codified in title 40 of the CFR, after appearing in the preamble of the final rule. These numbers are listed in 40 CFR part 9, displayed in a subsequent publication in the Federal Register, or displayed by other appropriate means, such as on a related collection instrument or form, or as part of the instructions to respondents. The display of OMB control numbers in certain EPA regulations is consolidated in 40 CFR part 9. In addition to displaying the applicable OMB control number in the final rule and on the applicable collection instruments, the Office of Prevention, Pesticides and Toxic Substances (OPPTS) has also typically listed the OMB control number in the table at 40 CFR 9.1 for regulations it has issued under TSCA, FIFRA, and FFDCA. With this technical amendment, OPPTS is updating the table in 40 CFR 9.1 to list the OMB control number assigned to several final rules that have published since its last update.

B. Why is this Technical Amendment Issued as a Final Rule?

The information collection activities referenced in this document were previously subject to public notice and comment as part of the rulemaking process, and this action does not in any way affect the referenced information collection activities or rulemakings. This action only amends the table at 40 CFR 9.1 to update the list of OMB control numbers listed there. Due to the technical nature of the table, EPA finds that further notice and comment about amending the table is unnecessary. As a result, EPA finds that there is “good cause” under section 553(b)(3)(B) of the Administrative Procedure Act (APA), 5 U.S.C. 553(b)(3)(B), to amend this table without further notice and comment.

C. What Specific Changes are Being Made?

Since July 1, 2003, EPA has taken several actions related to significant new use rules (SNURs) promulgated under TSCA section 5(a)(2). The paperwork burden associated with a new chemical SNUR is approved under OMB control number 2070-0012 (EPA ICR No. 0574), and under OMB control number 2070-0038 (EPA ICR No. 1188) when related to existing chemicals. These ICRs were first approved in the late 1980s and have been renewed every 3 years, with the latest approval for these ICRs published in the Federal Register on January 21, 2005 (70 FR 3195) (FRL-7862-6) for OMB control number 2070-0012, and on February 3, 2003 (68 FR 5288) (FRL-7446-7) for OMB control number 2070-0038. For futher information on this ICR, please refer to the docket.

EPA is removing several entries because the SNURs have been revoked. Since these provisions no longer exist, the corresponding listing in the table should be removed as well. EPA is adding several entries to reflect the promulgation of new SNURs. The table is amended to list these new sections, along with their corresponding OMB control number as identified in the final rule.

III. Statutory and Executive Order Reviews

This final rule implements technical amendments to 40 CFR part 9 to reflect changes to OMB approvals under PRA. It does not otherwise impose or amend any requirements. As such, this action does not require review by OMB under Executive Order 12866, entitled Regulatory Planning and Review (58 FR 51735, October 4, 1993), the Paperwork Reduction Act (44 U.S.C. 3501 et seq.), or Executive Order 13045, entitled Protection of Children from Environmental Health Risks and Safety Risks (62 FR 19885, April 23, 1997). Nor does it impose any enforceable duty, contain any unfunded mandate, or impose any significant or unique impact on small governments as described in the Unfunded Mandates Reform Act of 1995 (UMRA) (Public Law 104-4).

This action will not have substantial direct effects on State or tribal governments, on the relationship between the Federal Government and States or Indian tribes, or on the distribution of power and responsibilities between the Federal Government and States or Indian tribes. As such, it will not have any “federalism implications” as described by Executive Order 13132, entitled Federalism (64 FR 43255, August 10, 1999) or “tribal implications” as described by Executive Order 13175, entitled Consultation and Coordination with Indian Tribal Governments (65 FR 67249, November 6, 2000). Nor does it involve any technical standards that would require Agency consideration of voluntary consensus standards pursuant to section 12(d) of the National Technology Transfer and Advancement Act of 1995 (NTTAA), Public Law 104-113, section 12(d) (15 U.S.C. 272 note), environmental justice-related issues that would require consideration under Executive Order 12898, entitled Federal Actions to Address Environmental Justice in Minority Populations and Low-Income Populations (59 FR 7629, February 16, 1994), or otherwise involve anything that would have any adverse effect on the supply, distribution, or use of energy that would require consideration under Executive Order 13211, entitled Actions Concerning Regulations that Significantly Affect Energy Supply, Distribution, or Use (66 FR 28355, May 22, 2001).

In addition, since this action is not subject to notice-and-comment requirements under the APA or any other statute, it is not subject to the regulatory flexibility provisions of the Regulatory Flexibility Act (RFA) (5 U.S.C. 601 et seq.).

IV. Congressional Review Act

The Congressional Review Act (CRA), 5 U.S.C. 801 et seq., as added by the Small Business Regulatory Enforcement Fairness Act of 1996, generally provides that before a rule may take effect, the agency promulgating the rule must submit a rule report, which includes a copy of the rule, to each House of the Congress and to the Comptroller General of the United States. Section 808 of CRA allows the issuing agency to make a rule effective sooner than otherwise provided by the CRA if the agency makes a good cause finding that notice and public procedure is impracticable, unnecessary, or contrary to the public interest. This determination must be supported by a brief statement (5 U.S.C. 808(2)). As stated previously, EPA has made such a good cause finding, including the reasons therefore, and established an effective date of March 23, 2006. EPA will submit a report containing this rule and other required information to the U.S. Senate, the U.S. House of Representatives, and the Comptroller General of the United States prior to publication of this rule in the Federal Register. This rule is not a “major rule” as defined by 5 U.S.C. 804(2).

List of Subjects in 40 CFR Part 9

Environmental protection, Reporting and recordkeeping requirements.

Dated: March 16, 2006.
Susan B. Hazen,
Acting Assistant Administrator, Office of Prevention, Pesticides and Toxic Substances.

Therefore, 40 CFR chapter I is amended as follows:

PART 9—[AMENDED]

1. The authority citation for part 9 continues to read as follows:

Authority: 7 U.S.C. 135 et seq., 136-136y; 15 U.S.C. 2001, 2003, 2005, 2006, 2601-2671, 21 U.S.C. 331j, 346a, 348; 31 U.S.C. 9701; 33 U.S.C. 1251 et seq., 1311, 1313d, 1314, 1318, 1321, 1326, 1330, 1342, 1344, 1345 (d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. In § 9.1, the table is amended by removing under the undesignated center heading “Significant New Uses of Chemical Substances” § § 721.1710, 721.4200, 721.4240, and 721.4466.

3. In § 9.1, the table is amended by adding the following sections under the undesignated center heading “Significant New Uses of Chemical Substances” and further amended by adding in numerical order by CFR designation a new undesignated center heading “Reporting Requirements and Review Processes for Microorganisms” and its entry § 725.1075 to read as follows:

§ 9.1 OMB approvals under the Paperwork Reduction Act.

* * * * *

40 CFR citation | OMB control No.
* * * * *
Significant New Uses of Chemical Substances
* * * * *
721.304 | 2070-0012
* * * * *
721.330 | 2070-0012
* * * * *
721.535 | 2070-0012
* * * * *
721.647 | 2070-0012
* * * * *
721.983 | 2070-0012
* * * * *
721.1070 | 2070-0012
* * * * *
721.1620 | 2070-0012
* * * * *
721.1648 | 2070-0012
* * * * *
721.1680 | 2070-0012
* * * * *
721.1747 | 2070-0012
* * * * *
721.2060 | 2070-0012
* * * * *
721.2076 | 2070-0012
* * * * *
721.2098 | 2070-0012
* * * * *
721.2685 | 2070-0012
* * * * *
721.2752 | 2070-0012
* * * * *
721.3062 | 2070-0012
* * * * *
721.3110 | 2070-0012
721.3130 | 2070-0012
721.3135 | 2070-0012
* * * * *
721.3438 | 2070-0012
* * * * *
721.3835 | 2070-0012
* * * * *
721.4096 | 2070-0012
* * * * *
721.4258 | 2070-0012
* * * * *
721.5252 | 2070-0012
721.5253 | 2070-0012
* * * * *
721.5288 | 2070-0012
* * * * *
721.5293 | 2070-0012
* * * * *
721.5315 | 2070-0012
* * * * *
721.5340 | 2070-0012
* * * * *
721.5358 | 2070-0012
* * * * *
721.5546 | 2070-0012
* * * * *
721.5560 | 2070-0012
* * * * *
721.5713 | 2070-0012
721.5718 | 2070-0012
* * * * *
721.5762 | 2070-0012
* * * * *
721.5905 | 2070-0012
721.5908 | 2070-0012
* * * * *
721.5917 | 2070-0012
* * * * *
721.5935 | 2070-0012
* * * * *
721.6167 | 2070-0012
* * * * *
721.7250 | 2070-0012
721.7255 | 2070-0012
* * * * *
721.7270 | 2070-0012
* * * * *
721.7290 | 2070-0012
* * * * *
721.8130 | 2070-0012
721.8140 | 2070-0012
721.8145 | 2070-0012
* * * * *
721.8340 | 2070-0012
* * * * *
721.8485 | 2070-0012
* * * * *
721.8940 | 2070-0012
721.8950 | 2070-0012
* * * * *
721.9078 | 2070-0012
721.9079 | 2070-0012
* * * * *
721.9501 | 2070-0012
* * * * *
721.9506 | 2070-0012
* * * * *
721.9511 | 2070-0012
* * * * *
721.9572 | 2070-0012
* * * * *
721.9640 | 2070-0012
* * * * *
721.9674 | 2070-0012
* * * * *
721.9929 | 2070-0012
* * * * *
721.9959 | 2070-0012
* * * * *
Reporting Requirements and Review Processes for Microorganisms
725.1075 | 2070-0012
* * * * *

[FR Doc. 06-2816 Filed 3-22-06; 8:45 am]

BILLING CODE 6560-50-S